DEPARTMENT OF ENERGY

Federal Energy Regulatory Commission

Combined Notice of Filings

Take notice that the Commission has received the following Natural Gas & Oil Pipeline Rate and Refund Report filings:

Filings Instituting Proceedings

Docket Numbers: RP23-822-000.

Applicants: MarkWest Pioneer, L.L.C.

Description: § 4(d) Rate Filing: Quarterly Fuel Adjustment Filing to be effective 7/1/2023.

Filed Date: 6/1/23.

Accession Number: 20230601-5136.

Comment Date: 5 p.m. ET 6/13/23.

Docket Numbers: RP23-823-000.

Applicants: Millennium Pipeline Company, LLC.

Description: § 4(d) Rate Filing: Negotiated Rate Amendment No. 142019-3—Mitsui to be effective 6/1/2023.

Filed Date: 6/1/23.

Accession Number: 20230601-5143.

Comment Date: 5 p.m. ET 6/13/23.

Docket Numbers: RP23-824-000.

Applicants: Columbia Gas Transmission, LLC.

Description: § 4(d) Rate Filing: Periodic TCRA Filing—Texas Eastern Refund to be effective 7/1/2023.

Filed Date: 6/1/23.

Accession Number: 20230601-5144.

Comment Date: 5 p.m. ET 6/13/23.

Docket Numbers: RP23-825-000.

Applicants: North Baja Pipeline, LLC.

Description: § 4(d) Rate Filing: NBX Project—Amended Negotiated Rate and Non-Conforming Agmt No. 125154-1 to be effective 6/1/2023.

Filed Date: 6/1/23.

Accession Number: 20230601-5146.

Comment Date: 5 p.m. ET 6/13/23.

Docket Numbers: RP23-826-000.

Applicants: Alliance Pipeline L.P.

Description: § 4(d) Rate Filing: Negotiated Rates—Various June 1 2023 Releases to be effective 6/1/2023.

Filed Date: 6/1/23.

Accession Number: 20230601-5166.

Comment Date: 5 p.m. ET 6/13/23.

Docket Numbers: RP23-827-000.

Applicants: Dauphin Island Gathering Partners.

Description: § 4(d) Rate Filing: Negotiated Rate Filing—6/1/2023 Chevron to be effective 6/1/2023.

Filed Date: 6/1/23.

Accession Number: 20230601-5174.

Comment Date: 5 p.m. ET 6/13/23.

Docket Numbers: RP23-828-000.

Applicants: Rover Pipeline LLC.

Description: § 4(d) Rate Filing: Summary of Negotiated Rate Capacity Release Agreements 6-1-23 to be effective 6/1/2023.

Filed Date: 6/1/23.

Accession Number: 20230601-5187.

Comment Date: 5 p.m. ET 6/13/23.

Docket Numbers: RP23-829-000.

Applicants: Equitrans, L.P.

Description: Compliance filing: Notice Regarding Non-Certificated Gathering Facilities—6/1/2023 to be effective N/A.

Filed Date: 6/1/23.

Accession Number: 20230601-5188.

Comment Date: 5 p.m. ET 6/13/23.

Docket Numbers: RP23-830-000.

Applicants: Columbia Gas Transmission, LLC.

Description: § 4(d) Rate Filing: Neg Rate & Non-Conforming Agreement—Antero 149760 to be effective 7/1/2023.

Filed Date: 6/2/23.

Accession Number: 20230602-5000.

Comment Date: 5 p.m. ET 6/14/23.

Docket Numbers: RP23-831-000.

Applicants: El Paso Natural Gas Company, L.L.C.

Description: § 4(d) Rate Filing: Negotiated Rate Agreement Update (Hartree June 5, 2023) to be effective 6/5/2023.

Filed Date: 6/2/23.

Accession Number: 20230602-5063.

Comment Date: 5 p.m. ET 6/14/23.

Docket Numbers: RP23-832-000.

Applicants: Southern Star Central Gas Pipeline, Inc.

Description: § 4(d) Rate Filing: Small Customer Rate Schedule Conversion to be effective 7/3/2023.

Filed Date: 6/2/23.

Accession Number: 20230602-5078.

Comment Date: 5 p.m. ET 6/14/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-769-001.

Applicants: North Baja Pipeline, LLC.

Description: Compliance filing: NBX Project—Notice of Commencement of Service CP20-27 to be effective N/A.

Filed Date: 6/2/23.

Accession Number: 20230602-5057.

Comment Date: 5 p.m. ET 6/14/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2023.
Kimberly D. Bose,
Secretary.

[FR Doc. 2023-12238 Filed 6-7-23; 8:45 am]

BILLING CODE 6717-01-P